DEPARTMENT OF COMMERCE

International Trade Administration

[A-570-943]

Oil Country Tubular Goods From the People's Republic of China: Extension of Time for the Preliminary Results of the Antidumping Duty Administrative Review

AGENCY: Import Administration, International Trade Administration, Department of Commerce.

DATES: Effective Date: April 24, 2012.

FOR FURTHER INFORMATION CONTACT: Paul Stolz or Eve Wang, AD/CVD Operations, Office 8, Import Administration, International Trade Administration, U.S. Department of Commerce, 14th Street and Constitution Avenue NW., Washington, DC 20230; telephone: (202) 482-4474 or (202) 482-6231, respectively.

SUPPLEMENTARY INFORMATION:

Background

On June 28, 2011, the Department of Commerce (“the Department”) published in the Federal Register a notice of initiation of an administrative review of the antidumping duty order on oil country tubular goods from the People's Republic of China covering 53 companies for the period November 17, 2009, through April 30, 2011. See Initiation of Antidumping and Countervailing Duty Administrative Reviews and Request for Revocation in Part, 76 FR 37781 (June 28, 2011). The POR was corrected to May 19, 2010, through April 30, 2011 in Initiation of Antidumping and Countervailing Duty Administrative Reviews and Requests for Revocation in Part, 76 FR 53404 (August 26, 2011) at footnote four. The preliminary results of review are currently due no later than April 30, 2012.

Extension of Time Limit of Preliminary Results

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period. We determined that completion of the preliminary results of this review within the 245-day period is not practicable because the Department requires additional time to analyze information pertaining to the respondents' sales practices, factors of production, and affiliations, and to issue supplemental questionnaires and review the responses. Therefore, on January 19, 2012, the Department extended the time period for completion of the preliminary results of this review by 90 days until April 30, 2012. See Oil Country Tubular Goods From the People's Republic of China: Extension of Time for the Preliminary Results of the Antidumping Duty Administrative Review, 77 FR 2700 (January 19, 2012). We have subsequently determined that we require additional time to complete these preliminary results. As a result, in accordance with section 751(a)(3)(A) of the Act, the Department is extending the time period for completion of the preliminary results of this review by an additional 30 days until May 30, 2012.

This notice is published in accordance with sections 751(a)(3)(A) and 777(i)(1) of the Act.

Dated: April 13, 2012.
Christian Marsh,
Deputy Assistant Secretary for Antidumping and Countervailing Duty Operations.

[FR Doc. 2012-9825 Filed 4-23-12; 8:45 am]

BILLING CODE 3510-DS-P